DEPARTMENT OF HOMELAND SECURITY

Transportation Security Administration

TSA's Migration to the Federal Docket Management System (FDMS)

AGENCY: Transportation Security Administration, DHS.

ACTION: Notice.

SUMMARY: The Transportation Security Administration (TSA) announces the migration of data and a service disruption to our automated public dockets, now managed by the Department of Transportation's (DOT's) Docket Management System (DMS). Effective September 30, 2007, DOT's DMS electronic dockets will be replaced by the Federal Docket Management System (FDMS), a government-wide, electronic docket management system. In preparation for the data migration from DMS to FDMS, effective Thursday, September 27, 2007 at 5 p.m., DOT's DMS will no longer accept electronic comments/submissions. DOT will continue to accept, as well as process, faxed and other paper documents after the migration to FDMS.

On Monday, October 1, 2007, FDMS will begin accepting electronic submissions for all currently open DMS dockets, including open TSA dockets. Between October 1 and October 31, closed DMS dockets will still be accessible through the DMS Web site. By October 31, the full migration of all electronic dockets currently in DMS is expected to be completed.

FOR FURTHER INFORMATION CONTACT: DOT: Renee V. Wright, Program Manager, Docket Operations, Office of Information Services, Office of the Assistant Secretary for Administration, Office of the Secretary, M-30, 1200 New Jersey Avenue, SE., West Building Ground Floor, Room W12-140, Washington, DC 20590; telephone number: (202) 493-0402; fax number (202) 493-2251; e-mail address: renee.wright@dot.gov.

TSA: Marisa Mullen, Docket Liaison, Office of the Chief Counsel, TSA-2, 601 South 12th Street, Arlington, VA 22202-4220; telephone (571) 227-2706.

SUPPLEMENTARY INFORMATION:

Background

TSA Docket Operations

TSA's official regulatory dockets are currently maintained in electronic form at DOT's DMS docket facilities at http://www.dms.dot.gov. Although the electronic form of TSA's dockets will be migrated to FDMS at http://www.regulations.gov on September 30, 2007, DOT's DMS will continue to process TSA's dockets and provide a physical facility and assistance to the public. The DOT Docket Operations facility, equipment, and staff is located on the West Building Ground Floor, Room W12-140 at 1200 New Jersey Avenue, SE., Washington, DC 20590. Hours for the facility are 9 a.m. to 5 p.m., Monday through Friday, excluding legal holidays. The Docket Operations telephone number is (202) 366-9826.

Federal Docket Management System (FDMS)

FDMS is a major component of the President's eRulemaking Initiative, which provides easy access to the public dockets maintained by Federal agencies, while streamlining and increasing the efficiency of internal procedures for agencies that did not already have electronic internet-accessible systems. FDMS is designed so that the public has a single point of access to the public dockets across the Federal Government. FDMS offers a standard, online procedure for Federal agencies to handle and process documents. The Initiative reduces costs by eliminating duplicative information systems and technical infrastructures.

FDMS is a full-featured electronic docket management system that gives Federal personnel and docket managers the ability to manage their rulemakings, adjudications, and other docketed program activities better. With this system, more than 30 Federal departments and agencies can post documents, supporting materials, and public comments/submissions on the Internet and the public will have a one-stop site to search, view, and download documents, as well as to submit comments or other documents to the agency dockets. Although all Federal agencies are required to use FDMS for their rulemaking dockets, FDMS will also handle and process public docket materials for other purposes. TSA will use it for all of the material currently docketed in DMS.

1. Accessing and Using FDMS. You may access FDMS on the Internet at http://www.regulations.gov. You may use FDMS to access available public docket materials online, as well as submit electronic comments or other documents to a particular docket available in FDMS.

2. Searching FDMS. The home screen in FDMS allows you to search and submit comments to open dockets. You may quickly narrow your search parameters for open dockets by agency or department by using the drop down selection lists. If you want to search all open TSA dockets, you should select “TRANSPORTATION SECURITY ADMINISTRATION” from the drop down list; or if you want all open DHS agency dockets, you should select “DEPARTMENT OF HOMELAND SECURITY—ALL”. You may also search for an available public docket or for particular docket material. FDMS provides two basic methods of searching to retrieve dockets and docket materials that are available in the system, as follows:

• “Quick Search” to search using a full-text search engine.

• “Advanced Search,” which displays various indexed fields, such as the docket name, docket identification number, phase of the action, initiating office, date of issuance, document title, document identification number, type of document, Federal Register reference, CFR citation. You may search each data field in the advanced search independently or in combination with other fields, as desired. Each search yields a simultaneous display of all available information found in FDMS that is relevant to the requested subject or topic.

3. Making Submissions to FDMS. TSA rulemaking documents, notices, and other documents published in the Federal Register will usually identify whether a docket has been established in FDMS. You may also search FDMS to determine if a docket has been established. You may submit comments/submissions to TSA dockets through FDMS, when a particular docket is open for public submissions, using any one of the following methods:

• Electronic. You may submit documents electronically through the online FDMS docket Web site at http://www.regulations.gov. This site is TSA's preferred method for receiving comments/submissions. Follow the online instructions for submissions.

• Mail/Hand-Delivery. You may submit documents by mail or hand-delivery to the Docket Management Facility, U.S. Department of Transportation, 1200 New Jersey Avenue, SE., West Building Ground Floor, Room W12-140, Washington, DC 20590-0001. DOT will scan the submission and post it to FDMS.

• Fax. You may fax your submissions to 202-493-2251. DOT will scan the submission and post it to FDMS.

4. Identification of Persons Making a Submission. As with DMS, FDMS is an “anonymous access” system, which means TSA will not know your identity, e-mail address, or other contact information unless it is provided in the body of your submission. We recommend that you include your name, mailing address, and an e-mail address or other contact information in the body of your document to ensure that you can be identified as the submitter. This also allows TSA to contact you in the event further information is needed or if there are questions. For example, if TSA cannot read your submission due to technical difficulties and you cannot be contacted, your submission may not be considered. Note that it is TSA's policy not to edit your submission; all documents received will be posted without change to http://www.regulations.gov, including any personal information provided. Therefore, any identifying or contact information provided in the body of a submission will be included in the official public docket, and made available to the public.

5. Confidential and Proprietary Information, and Sensitive Security Information (SSI). Do not submit comments/submissions that include trade secrets, confidential commercial or financial information, or SSI to FDMS. Please make such submissions separately from other comments on a rulemaking. Submissions containing this type of information should be appropriately marked as containing such information and submitted by mail or hand delivery to the Docket Management Facility, U.S. Department of Transportation, 1200 New Jersey Avenue, SE., West Building Ground Floor, Room W12-140, Washington, DC 20590-0001.

Upon receipt of such submissions, TSA will not place them in the public docket and will handle them in accordance with applicable safeguards and restrictions on access. TSA will hold them in a separate file to which the public does not have access, and place a note in the public docket that TSA has received such materials from the commenter. If TSA receives a request to examine or copy this information, TSA will treat it as any other request under the Freedom of Information Act (FOIA) (5 U.S.C. 552) and the Department of Homeland Security's (DHS') FOIA regulation found in 6 CFR part 5.

6. FDMS Privacy Issues. As with DMS, anyone is able to search the electronic form of all submissions entered into any of our dockets in FDMS by the name of the individual submitting the document, or signing the document, if submitted on behalf of an association, business, labor union, etc. You may review the applicable Privacy Act Statement published in the Federal Register on April 11, 2000 (65 FR 19477), or you may visit http://DocketsInfo.dot.gov, which will be available by October 1, 2007.

7. FDMS vs. DMS List Serve/Email Notification Capabilities. The capabilities of the DMS “list serve,” called “email notifications” in FDMS, are different. A person may ask to be placed on an e-mail listing to be alerted automatically when activity occurs in specific regulations or dockets of information at the designated frequency (daily, weekly, monthly), without having to manually access the information online. You must re-register and set up your e-mail notification criteria in FDMS to receive these alerts.

FDMS will only allow users to sign up for specific regulations or specific dockets. Users will not be able to sign up for categories of dockets, such as all TSA's rulemakings. Users will also not be able to sign up for the subject areas currently allowed in DMS, for example, Federalism. Some features that were available in DMS will not work in FDMS. For example, the list serve in DMS can search behind the DOT firewall for data necessary to respond to a list serve request; FDMS cannot search behind the DOT firewall. Some reports and other information will be available on http://DocketsInfo.dot.gov.

Migration From DMS to FDMS

Phased Migration

Using a phased approach, all dockets currently contained in DMS will be moved to FDMS. All open TSA dockets (dockets to which TSA or the public may still submit documents or comments) will be available in FDMS on September 30, 2007. Due to the tremendous amount of data to be transferred from DOT's DMS to FDMS, the migration of the remaining dockets will occur over the month of October and is expected to be completed by October 31, 2007. During this time, DMS will remain online for searching, viewing, and downloading documents in these remaining DOT dockets.

Beginning October 1, 2007, any electronic filing to an open docket must go to the FDMS at http://www.regulations.gov. Until 12 noon on Friday, September 28, 2007, DMS will process all remaining September 27 electronic submissions. DMS will continue to accept, as well as process, faxed and paper documents before and after that date. Documents submitted until 12 noon on Friday, September 28, 2007, will be posted to DMS, and later transferred to FDMS with the rest of the docket. Any faxed or paper submissions received after that time, or not processed by 12 noon Friday, September 28, 2007, will be processed on Monday, October 1 in FDMS.

Docket ID Numbers

When DOT migrates TSA's DMS data to FDMS, docket numbers that were assigned in DMS (called legacy numbers), will remain the same in FDMS, and DMS will provide online public access to all existing, legacy dockets in DMS. For example, DMS Docket No. TSA-2002-11602-1 will remain the same in FDMS. The makeup of this docket number is as follows: the agency (TSA), followed by the year the docket was created (2002), then the sequence number automatically assigned upon creation (11602), and lastly the document sequence within this particular docket (1).

Any docket opened after September 27, 2007, will receive a docket ID in FDMS format. A TSA Docket ID in FDMS will be formatted as TSA-YYYY-00XX-00XX (Agency, Year, 4-digit yearly Docket sequence number per agency, 4-digit document sequence number within docket).

FDMS Submissions and Docket IDs

Currently in DMS, the public may submit comments and other documents, such as applications, petitions, exemptions, waivers, and other documents without knowing the actual docket number. In FDMS, you are not allowed to submit a document without a docket ID. To handle this, DOT Docket Operations will place documents without docket IDs into “shell dockets”. A “shell docket” will be a “catch all” for submissions, such as applications, petitions, exemptions, and/or waivers, and data quality without a docket ID. Docket Operations staff will review the documents in the “shell docket” and file them appropriately. However, to assure that submissions are placed in the appropriate FDMS dockets, it is best that each submission include a docket ID.

FDMS Docket Types

FDMS dockets are divided into two types, “Rulemaking” and “Non-Rulemaking.” To review dockets or make submissions, please use the “Search the Docket” tab. Select the department or agency and use the docket type “non-rulemaking” for all dockets other than rulemaking; from there you can select the appropriate sub-type, such as “Peer Review.”

Additional Information on Use of FDMS

Additional details about FDMS, as well as detailed instructions and assistance for using the system, are available at http://www.regulations.gov. DOT will also have available online by October 1, 2007, a new site that will provide helpful information about the use of FDMS for DOT's DMS dockets. The site will also contain other helpful information, such as reports that were available on DMS but will not be available on FDMS. The site will be at http://DocketsInfo.dot.gov.

In addition, if you are interested in attending informational sessions regarding FDMS that DOT will be offering on October 3, 2007, (2-4 p.m. for the public) and October 4, 2007, (9-11 a.m. for the public) in the DOT Conference Center/Multi-Media Room, West Building, Room W11-130 at 1200 New Jersey Avenue, SE., Washington, DC. Sign up is available at http://www.dms.dot.gov. The DOT DMS Web site will contain a link where you will be referred to FDMS for docket submissions.

Issued in Arlington, Virginia, on September 25, 2007.
Mardi Ruth Thompson,
Deputy Chief Counsel (Regulations).

[FR Doc. E7-19277 Filed 9-28-07; 8:45 am]

BILLING CODE 9110-05-P